DEPARTMENT OF VETERANS AFFAIRS

[OMB Control No. 2900-0001]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before February 7, 2007.

ADDRESSES: Submit written comments on the collection of information through www.Regulations.gov; or to VA's OMB Desk Officer, OMB Human Resources and Housing Branch, New Executive Office Building, Room 10235, Washington, DC 20503, (202) 395-7316. Please refer to “OMB Control No. 2900-0001” in any correspondence.

FOR FURTHER INFORMATION CONTACT: Denise McLamb, Initiative Coordination Service (005G1), Department of Veterans Affairs, 810 Vermont Avenue, NW., Washington, DC 20420, (202) 565-8374, fax (202) 565-7870 or e-mail denise.mclamb@mail.va.gov. Please refer to “OMB Control No. 2900-0001.”

SUPPLEMENTARY INFORMATION: Titles:

a. Veteran's Application for Compensation and/or Pension, VA Form 21-526.

b. Authorization and Consent Release Information to the Department of Veterans Affairs (VA), VA Form 21-4142.

OMB Control Number: 2900-0001.

Type of Review: Existing collection in use without an OMB control number.

Abstract: Veterans complete VA Form 21-526 to apply for compensation and/or pension benefits. Veterans who need VA's help in obtaining non-VA medical records must complete VA Form 21-4142.

An agency may not conduct or sponsor, and a person is not required to respond to a collection of information unless it displays a currently valid OMB control number.

The Federal Register Notice with a 60-day comment period soliciting comments on this collection of information was published on November 1, 2006 at page 64335.

Affected Public: Individuals or households.

Estimated Annual Burden: 592,500 hours.

Estimated Average Burden per Respondent:

a. VA Form 21.526—90 minutes.

b. VA Form 21-4142—5 minutes.

Frequency of Response: On occasion.

Estimated Number of Respondents: 395,000.

Dated: December 26, 2006.
By direction of the Secretary.
Denise McLamb,
Program Analyst, Initiative Coordination Service.

[FR Doc. E6-22652 Filed 1-5-07; 8:45 am]

BILLING CODE 8320-01-P